DEPARTMENT OF HEALTH AND HUMAN SERVICES

Food and Drug Administration

[Docket No. FDA-2014-N-0001]

Science Board to the Food and Drug Administration; Amendment of Notice

AGENCY: Food and Drug Administration, HHS.

ACTION: Notice.

SUMMARY: The Food and Drug Administration (FDA) is announcing an amendment to the notice of meeting of the Science Board to the Food and Drug Administration. This meeting was announced in the Federal Register of January 9, 2014 (79 FR 1645). The amendment is being made to reflect a change in the Date and Time and the Agenda portions of the document. There are no other changes.

FOR FURTHER INFORMATION CONTACT: Martha Monser, Office of the Chief Scientist, Office of the Commissioner, Food and Drug Administration, 10903 New Hampshire Ave., Bldg. 32, Rm. 4286, Silver Spring, MD 20993, 301-796-4627, martha.monser@fda.hhs.gov, or FDA Advisory Committee Information Line, 1-800-741-8138 (301-443-0572 in the Washington, DC area). Please call the information line for up-to-date information on this meeting.

SUPPLEMENTARY INFORMATION: In the Federal Register of January 9, 2014, FDA announced that a meeting of the Science Board to the Food and Drug Administration would be held on February 5, 2014.

1. On page 1645, in the second column, the Date and Time portion of the document is changed to read as follows:

Date and time: The meeting will be held on February 5, 2014, from approximately 8:30 a.m. until 1 p.m.

2. On page 1645, in the second column, under Agenda, in the first paragraph, after the third sentence, the following sentence is added to read as follows:

The Office of Women's Health (OWH) will seek input from the Board on the development of the OWH Research Roadmap.

This notice is issued under the Federal Advisory Committee Act (5 U.S.C. app. 2) and 21 CFR part 14, relating to the advisory committees.

Dated: January 17, 2014.
Leslie Kux,
Assistant Commissioner for Policy.

[FR Doc. 2014-01298 Filed 1-22-14; 8:45 am]

BILLING CODE 4160-01-P